DEPARTMENT OF TRANSPORTATION

Federal Highway Administration

Environmental Impact Statement; Cidra-Cayey Connector, Puerto Rico

AGENCY: Federal Highway Administration (FHWA), DOT.

ACTION: Notice of intent.

SUMMARY: The FHWA is issuing this notice to advise the public that an environmental impact statement (EIS) will be prepared for the Cidra-Cayey Connector in the east center area of Puerto Rico. The purpose of the EIS is to provide information and analyses for decisions on the project in accordance with the policies and purposes of the National Environmental Policy Act.

FOR FURTHER INFORMATION CONTACT: Félix Rodríguez, P.E., Federal Highway Administration, Puerto Rico Division, 350 Carlos Chardon Street, Suite 210, San Juan, Puerto Rico 00918, Telephone (787) 766-5600 Ext. 230; or Ms. Irma García, P.E., Programming and Special Studies Area, Puerto Rico Highway and Transportation Authority, PO Box 42007, San Juan, Puerto Rico, 00940-2007, Telephone (787) 729-1580.

SUPPLEMENTARY INFORMATION: The FHWA, in cooperation with the Commonwealth of Puerto Rico Department of Transportation and Public Works (PRDTPW), through its Highway and Transportation Authority (HTA), will prepare a joint environmental impact statement (EIS) on a proposal to construct a new roadway in the municipality of Cidra. The proposed action consists of the construction of a new roadway which will provide the municipality of Cidra and bordering districts with an access from Cidra to PR-52. The new highway will begin in existing PR-7733 and end in PR-52 or PR-184, depending on the alternative that will be selected during the environmental process. The route will have partial access control.

A State, non-Federal, Draft Environmental Impact Statement (DEIS) was prepared for the proposed project in the year 2000 and public hearings were held in the same year. Since the 2000, technical studies identified environmental and socio-economic factors which warranted the consideration of additional alternatives beyond the ones studied for the original preferred alternative presented in the DEIS. As a result, the FHWA in cooperation with the PRHTA will prepare an EIS.

Alternatives under consideration include: No-Build; Transportation System Management (TSM) activities; upgrade existing roadways; Mass Transit; and five alignment alternatives to construct a new roadway on a new location. The new alignment of the road is necessary to relieve traffic congestion along existing PR-172 and in areas which have experienced a traffic increase such as the PR-7733 and PR-787.

As part of the scoping process, Federal, State, and local agencies, private organizations, citizens and interest groups will have an opportunity to identify issues of concern and provide input on the purpose and need for the project, range of alternatives, methodology, and the development of the EIS. A public coordination plan will be developed. This plan will utilize the following outreach efforts to provide information and request input: newsletters, an internet Web site, e-mail and direct mail, informational meetings and briefings, public hearings, and other efforts, as necessary and appropriate. A public hearing will be held upon completion of the DEIS. The DEIS will be available for public and agency review and comments prior to the public hearings.

To ensure that the full range of issues and alternatives related to this proposed action is addressed and all significant issues identified, comments and suggestions are invited from interested parties. Comments or questions concerning this proposed action, the EIS and Section 106 consultation should be directed to FHWA at the address provided above.

(Catalogue of Federal Domestic Assistance Program Number 20.205, Highway Planning and Construction. The regulations implementing Executive Order 12372 regarding intergovernmental consultation on Federal programs and activities apply to this program.)

Authority: 23 U.S.C. 315; 49 CFR 1.48.

Issued on: April 5, 2007.
Félix Rodríguez-Soto,
Puerto Rico Assistant Division Administrador.

[FR Doc. E7-7014 Filed 4-12-07; 8:45 am]

BILLING CODE 4910-22-P